DEPARTMENT OF HOMELAND SECURITY

Coast Guard

33 CFR Part 100

[Docket No. USCG-2020-0074]

Special Local Regulations; Marine Events Within the Fifth Coast Guard District

AGENCY: Coast Guard, DHS.

ACTION: Notice of proposed rulemaking; withdrawal.

SUMMARY: The Coast Guard is withdrawing its proposed rule to establish temporary special local regulations for certain waters of the Choptank River. The rulemaking was initiated to establish a special local regulations during the “Maryland Freedom Swim,” a marine event to be held on certain navigable waters of the Choptank River between Trappe, MD, and Cambridge, MD, on May 30, 2020. The proposed rule is being withdrawn because it is no longer necessary. The event sponsor has cancelled the swim event.

DATES: The Coast Guard is withdrawing the proposed rule published January 31, 2020, as of May 15, 2020.

ADDRESSES: To view the docket for this withdrawn rulemaking, go to https://www.regulations.gov, type USCG-2020-0074 in the “SEARCH” box and click “SEARCH.” Click on Open Docket Folder on the line associated with this rule.

FOR FURTHER INFORMATION CONTACT: If you have questions about this notice, call or email Mr. Ron Houck, Waterways Management Division, U.S. Coast Guard Sector Maryland-National Capital Region; telephone 410-576- 2674, email Ronald.L.Houck@uscg.mil.

SUPPLEMENTARY INFORMATION:

Background

On January 31, 2020, we published a notice of proposed rulemaking entitled “Special Local Regulation; Choptank River, Between Trappe and Cambridge, MD” in the Federal Register (85 FR 5608). The rulemaking concerned the Coast Guard's proposal to establish temporary special local regulations for certain waters of the Choptank River, between Trappe, MD, and Cambridge, MD, effective from 9 a.m. through 1 p.m. on May 30, 2020. This action was necessary to provide for the safety of life on these waters during an open water swim event. This rulemaking would have prohibited persons and vessels from entering the regulated area unless authorized by the Captain of the Port Maryland-National Capital Region or the Coast Guard Patrol Commander.

Withdrawal

The proposed rule is being withdrawn due to a regulated area no longer being necessary following a cancellation of the swim by the event sponsor.

Authority

We issue this notice of withdrawal under the authority of 46 U.S.C. 70034.

Dated: May 5, 2020.
Joseph B. Loring,
Captain, U.S. Coast Guard, Captain of the Port Maryland-National Capital Region.

[FR Doc. 2020-10203 Filed 5-14-20; 8:45 am]

BILLING CODE 9110-04-P